Title 3—

The President

Proclamation 7378 of November 15, 2000

National Great American Smokeout Day, 2000

By the President of the United States of America

A Proclamation

In the 24 years since the American Cancer Society organized the first Great American Smokeout, our country has made encouraging progress in our battle to reduce the devastating human and economic toll that tobacco products take on our society. Today we have a more comprehensive understanding of the dangers of tobacco use and the sophisticated marketing tactics used by tobacco companies, and we have developed more effective methods for helping people break their addiction to tobacco products.

Despite the progress we have made, tobacco remains the leading cause of preventable death in our Nation, with more than 400,000 casualties from tobacco-related illness each year. Since the first report of the Surgeon General on smoking and health was issued in 1964, 10 million Americans have died from causes attributed to smoking. More than 50 million Americans are currently addicted to tobacco. Every day, another 3,000 young Americans become regular smokers; of these, nearly 1,000 will die prematurely.

A recent study funded by the National Institutes of Health has shown that young people become addicted to nicotine much more quickly than we previously thought. Adolescents who smoke as infrequently as once a month still experience symptoms of addiction. That is why my Administration has urged the Congress to raise the tax on cigarettes and grant authority to the Food and Drug Administration to limit tobacco marketing and sales to youth. I have also called on all the States to devote a substantial portion of their tobacco settlement funds to reduce youth smoking. Currently, tobacco companies are spending nearly $7 billion a year to market their products, dramatically more than the Federal Government and all 50 States combined are spending on tobacco prevention and cessation programs.

My Administration has also joined with the American Cancer Society and other public health organizations in calling for public and private health plans to provide coverage for and access to proven tobacco cessation methods. We know that helping people quit smoking produces immediate and long-term health benefits—saving money and saving lives.

National Great American Smokeout Day presents all of us with the opportunity to reaffirm our commitment to the health and safety of all Americans. Smokers who quit smoking for the duration of the day can lead by example and take the first crucial step toward better health. Nonsmokers can teach children about the dangers of using tobacco and strengthen our Nation's efforts to eliminate young people's exposure to secondhand smoke.Through efforts like the Great American Smokeout and the implementation of proven tobacco prevention programs, we are moving toward my Administration's goal of cutting smoking rates among teens and adults in half within the decade.

NOW, THEREFORE, I, WILLIAM J. CLINTON, President of the United States of America, by virtue of the authority vested in me by the Constitution and laws of the United States, do hereby proclaim November 16, 2000, as national Great American Smokeout Day. I call upon all Americans to join together in an effort to educate our children about the dangers of tobacco use and to take this opportunity to practice a healthy lifestyle that sets a positive example for young people.

IN WITNESS WHEREOF, I have hereunto set my hand this fifteenth day of November, in the year of our Lord two thousand, and of the Independence of the United States of America the two hundred and twenty-fifth.

wj

[FR Doc. 00-29902

Filed 11-20-00; 8:45 am]

Billing code 3195-01-P